DEPARTMENT OF TRANSPORTATION

Federal Aviation Administration

14 CFR Part 39

[Docket No. FAA-2007-28308; Directorate Identifier 2007-NM-016-AD; Amendment 39-15195; AD 2007-19-05]

RIN 2120-AA64

Airworthiness Directives; Hawker Beechcraft Model 400, 400A, and 400T Series Airplanes

AGENCY: Federal Aviation Administration (FAA), Department of Transportation (DOT).

ACTION: Final rule.

SUMMARY: The FAA is adopting a new airworthiness directive (AD) for certain Hawker Beechcraft Model 400, 400A, and 400T series airplanes. This AD requires modifying the attachment fasteners on the engine cowling panels. This AD results from several reports of loose attachment fasteners found on the engine cowling panels, and subsequently the panels either peeling back or separating from the airplane during flight. We are issuing this AD to prevent failure of the attachment fasteners on the engine cowling panels, which could result in separation of a panel from the airplane, and consequent damage to airplane structure. These conditions could adversely affect continued safe flight and landing of the airplane, or cause injury to people or damage to property on the ground.

DATES: This AD becomes effective October 23, 2007.

The Director of the Federal Register approved the incorporation by reference of a certain publication listed in the AD as of October 23, 2007.

ADDRESSES: You may examine the AD docket on the Internet at http://dms.dot.gov or in person at the U.S. Department of Transportation, Docket Operations, M-30, West Building Ground Floor, Room W12-140, 1200 New Jersey Avenue, SE., Washington, DC.

Contact Hawker Beechcraft Corporation, 9709 East Central, Wichita, Kansas 67206, for service information identified in this AD.

FOR FURTHER INFORMATION CONTACT: William Griffith, Aerospace Engineer, Airframe and Services Branch, ACE-118W, FAA, Wichita Aircraft Certification Office, 1801 Airport Road, Room 100, Mid-Continent Airport, Wichita, Kansas 67209; telephone (316) 946-4116; fax (316) 946-4107.

SUPPLEMENTARY INFORMATION:

Examining the Docket

You may examine the AD docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a notice of proposed rulemaking (NPRM) to amend 14 CFR part 39 to include an AD that would apply to certain Raytheon (Beech) Model 400, 400A, and 400T series airplanes. That NPRM was published in the Federal Register on May 29, 2007 (72 FR 29446). That NPRM proposed to require modifying the attachment fasteners on the engine cowling panels.

Comments

We provided the public the opportunity to participate in the development of this AD. We received no comments on the NPRM or on the determination of the cost to the public.

Explanation of Change to Applicability

We have revised the applicability of the existing AD to match the most recent type certificate data sheet for the affected models.

Conclusion

We have carefully reviewed the available data and determined that air safety and the public interest require adopting the AD with the change described previously. We have determined that this change will neither increase the economic burden on any operator nor increase the scope of the AD.

Costs of Compliance

There are about 757 airplanes of the affected design in the worldwide fleet. This AD affects about 575 airplanes of U.S. registry. The required actions take about 10 work hours per airplane, at an average labor rate of $80 per work hour. Required parts cost about $400 per airplane. Based on these figures, the estimated cost of this AD for U.S. operators is $690,000, or $1,200 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-19-05 Hawker Beechcraft Corporation (Formerly Raytheon Aircraft Company): Amendment 39-15195. Docket No. FAA-2007-28308; Directorate Identifier 2007-NM-016-AD.

Effective Date

(a) This AD becomes effective October 23, 2007.

Affected ADs

(b) None.

Applicability

(c) This AD applies to Hawker Beechcraft Model 400, 400A, and 400T series airplanes, certificated in any category; as identified in Raytheon Service Bulletin SB 54-3788, dated December 2006.

Unsafe Condition

(d) This AD results from several reports of loose attachment fasteners found on the engine cowling panels, and subsequently the panels either peeling back or separating from the airplane during flight. We are issuing this AD to prevent failure of the attachment fasteners on the engine cowling panels, which could result in separation of a panel from the airplane, and consequent damage to airplane structure. These conditions could adversely affect continued safe flight and landing of the airplane, or cause injury to people or damage to property on the ground.

Compliance

(e) You are responsible for having the actions required by this AD performed within the compliance times specified, unless the actions have already been done.

Modification

(f) Within 200 flight hours after the effective date of this AD: Modify the attachment fasteners on the engine cowling panels by doing all the actions in accordance with the Accomplishment Instructions of Raytheon Service Bulletin SB 54-3788, dated December 2006.

Alternative Methods of Compliance (AMOCs)

(g)(1) The Manager, Wichita Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Raytheon Service Bulletin SB 54-3788, dated December 2006, to perform the actions that are required by this AD, unless the AD specifies otherwise. The Director of the Federal Register approved the incorporation by reference of this document in accordance with 5 U.S.C. 552(a) and 1 CFR part 51. Contact Hawker Beechcraft Corporation, 9709 East Central, Wichita, Kansas 67206, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on August 31, 2007.
Stephen P. Boyd,
Acting Manager, Transport Airplane Directorate, Aircraft Certification Service.

[FR Doc. E7-18048 Filed 9-17-07; 8:45 am]

BILLING CODE 4910-13-P